NUCLEAR REGULATORY COMMISSION

National Materials Program; Announcement of Public Meeting

AGENCY: Nuclear Regulatory Commission.

ACTION: Announcement of public meeting.

SUMMARY: The U.S. Nuclear Regulatory Commission (NRC) is conducting a meeting to inform stakeholders of the status and progress of the National Materials Program (NMP) pilot projects and receive feedback on a range of issues involving the NMP. Areas of discussion will include each pilot project as well as focus on the future structure and framework of the NMP. The discussion and feedback will be used by the staff in the overall assessment report on the pilot projects.

DATES: A 1-day public meeting will be held Wednesday, March 31, 2004, from 8 a.m. to 3 p.m. at NRC Headquarters, in room T2-B3, Two White Flint North, 11545 Rockville Pike, Rockville, Maryland. To facilitate maximum information sharing, additional information on the NMP, including pilot projects, can be found at: http://www.hsrd.ornl.gov/nrc/materials.htm.

Travel Information: It is recommended that participants commute to the meeting via the Metrorail system (Metro). The White Flint Metro stop, along the red line, is adjacent to the White Flint Complex. There are limited parking spaces available in the area.

Notification of Attendance: It is strongly encouraged that prospective participants contact NRC prior to the meeting to expedite the required security processing for NRC visitors and to ensure that adequate copies of handouts are available. Contact Shawn Rochelle Smith, telephone: (301) 415-2620; e-mail: srs3@nrc.gov, and submit participant name, affiliated organization, telephone number, address, and citizenship status by March 29, 2004. Also, it is suggested that invited speakers as well as attendees, limit the amount of personal items and electronic devices brought into the building. Those needing accommodations under the Americans with Disabilities Act or having special concerns should contact Gwendolyn Davis in advance at (301) 415-2325; from outside the Washington, DC metropolitan area, call (800) 368-5642, extension 2325 or e-mail: gxd@nrc.gov. Persons needing accommodations that are planning to attend the meeting should contact Mrs. Davis and provide information that will facilitate entrance into the building the day of the meeting.

FOR FURTHER INFORMATION CONTACT: Shawn Rochelle Smith, U.S. Nuclear Regulatory Commission, Office of State and Tribal Programs, Mail Stop: O3-C10, Washington, DC 20555; telephone: 301-415-2620; e-mail: srs3@nrc.gov. Questions about the public meeting process should be directed to Lance J. Rakovan, U.S. Nuclear Regulatory Commission, Office of State and Tribal Programs, Mail Stop: O3-C10, Washington, DC 20555; telephone: 301-415-2589; e-mail: ljr2@nrc.gov.

SUPPLEMENTARY INFORMATION: The meeting will be conducted in two segments. The first segment will consist of presentations on the structure and framework of the NMP and the status of the NMP pilot projects. The second segment will be conducted in a “roundtable format” among invited participants representing the broad spectrum of interests that may be affected by the current or any changes to the structure and framework of the NMP. To help facilitate discussions, participants at the table will include representatives of radioactive material licensees, public interest groups, and Federal and State governments. Although the focus of the discussion will be among the invited participants, the meeting is open to the public and there will be opportunities to comment on each agenda item to be discussed by roundtable participants.

Dated in Rockville, Maryland, this 11th day of February, 2004.
For the U.S. Nuclear Regulatory Commission.
Paul H. Lohaus,
Director, Office of State and Tribal Programs.

[FR Doc. 04-3559 Filed 2-18-04; 8:45 am]

BILLING CODE 7590-01-P